DEPARTMENT OF THE TREASURY

Office of the Comptroller of the Currency

Office of Thrift Supervision

FEDERAL DEPOSIT INSURANCE CORPORATION

Agency Information Collection Activities; Proposed Renewal of Information Collection; Comment Request

AGENCIES: Office of the Comptroller of the Currency (OCC) and Office of Thrift Supervision (OTS), Treasury, and Federal Deposit Insurance Corporation (FDIC).

ACTION: Joint notice and request for comment.

SUMMARY: The OCC, OTS, and FDIC (collectively, the “agencies”), as part of their continuing efforts to reduce paperwork and respondent burden, invite financial institutions, the general public, and other Federal agencies to comment on a continuing information collection. This notice is issued in accordance with the requirements of the Paperwork Reduction Act of 1995 (44 U.S.C. chapter 35). Currently, the agencies are requesting comment on the extension, without change, of an information collection titled Interagency Guidance on Asset Securitization Activities.

DATES: Written comments should be received on or before July 7, 2000.

ADDRESSES: You are invited to submit a comment to any or all of the agencies. Please direct your comments as follows:

OCC: Communications Division, Office of the Comptroller of the Currency, 250 E Street, SW., Third Floor, Attention: 1557-0217, Washington, DC 20219. In addition, you may send a comment by facsimile transmission to (202) 874-5274, or by electronic mail to regs.comments@occ.treas.gov. You can inspect and photocopy the comments at the OCC's Public Reference Room, 250 E Street, SW., Washington, DC, between 9:00 a.m. and 5:00 p.m. on business days. You can make an appointment to inspect the comments by calling (202) 874-5043.

OTS: Manager, Dissemination Branch, Information Management and Services, Office of Thrift Supervision, 1700 G Street, NW., Washington, DC 20552, Attention: 1550-0104. You may hand deliver your comments to the Guard's desk at 1700 G Street, NW.; or you may send comments by facsimile transmission to (202) 906-7755; or they may be sent by e-mail: public.info@ots.treas.gov. If you comment by e-mail, you should include your name and telephone number. You should send any comments over 25 pages in length to FAX Number (202) 906-6956. You may inspect the comments at 1700 G Street, NW., from 10 a.m. until 4 p.m. on Tuesdays and Thursdays. Comments are also available at OTS.treas.gov.

FDIC: Robert E. Feldman, Executive Secretary, Attention: Comments/OES, Federal Deposit Insurance Corporation, 550 17th Street, NW., Washington, DC 20429. You may hand-deliver comments to the guard station at the rear of the 550 17th Street Building (located on F Street), on business days between 7 a.m. and 5 p.m. [FAX number (202) 898-3838: Internet address: comments@fdic.gov]. You may inspect and photocopy comments in the FDIC Public Information Center, Room 100, 801 17th Street, NW., Washington, DC, between 9 a.m. and 4:30 p.m., on business days.

FOR FURTHER INFORMATION CONTACT: You may request additional information or a copy of the collection by contacting:

OCC: Jessie Dunaway or Camille Dixon, Legislative and Regulatory Activities Division, Office of the Comptroller of the Currency, 250 E Street, SW., Washington DC 20219, (202) 874-5090.

OTS: William Magrini, Supervision, Office of Thrift Supervision, 1700 G Street, NW., Washington, DC 20552, (202) 906-5744.

FDIC: Steven F. Hanft, Office of the Executive Secretary, FDIC, 550 17th Street, NW., Washington, DC 20429, (202) 898-7453.

SUPPLEMENTARY INFORMATION: Title: Interagency Guidance on Asset Securitization Activities.

OMB Numbers:

OCC: 1557-0217.

OTS: 1550-0104.

FDIC: 3064-0137.

Form Numbers:

None.

Abstract: On December 13, 1999, the agencies issued the Interagency Guidance on Asset Securitization Activities. The information collections contained in the Interagency Guidance were approved by OMB. The agencies are now in the process of requesting that OMB renew its approval of those information collections. The agencies are not proposing any change to the underlying information collections.

The Board of Governors of the Federal Reserve System has participated in the development and review of this information collection and will process its extension under its Paperwork Reduction Act delegated authority.

Type of Review: Renewal, without change, of a currently approved collection.

Affected Public: Business, for-profit institutions, and non-profit institutions.

Estimated Number of Respondents:

OCC: 50.

OTS: 30.

FDIC: 70.

Estimated Total Annual Responses:

OCC: 1 per year.

OTS: 1 per year.

FDIC: 1 per year.

Estimated Total Annual Burden:

OCC: 2,115 hours.

OTS: 1,269 hours.

FDIC: 2,070 hours.

An agency may not conduct or sponsor, and a person is not required to respond to, a collection of information unless the collection of information displays a valid OMB control number.

Request for Comments

Comments are invited on:

(a) Whether the collection of information is necessary for the proper performance of the functions of the agencies, including whether the information shall have practical utility;

(b) The accuracy of the agencies' estimate of the burden of the collection of information;

(c) Ways to enhance the quality, utility, and clarity of the information to be collected;

(d) Ways to minimize the burden of the collection of information on respondents, including through the use of automated collection techniques or other forms of information technology; and

(e) Estimates of capital or start-up costs and costs of operation, maintenance and purchase of services to provide information.

Dated: May 2, 2000.
Mark J. Tenhundfeld,
Assistant Director, Legislative and Regulatory Activities Division, Office of the Comptroller of the Currency.

Dated: April 24, 2000.
John E. Werner,
Director, Information Management and Services, Office of Thrift Supervision.

Dated at Washington, DC, this 26th day of April, 2000.
Federal Deposit Insurance Corporation.
Robert E. Feldman,
Executive Secretary.

[FR Doc. 00-11376 Filed 5-5-00; 8:45 am]

BILLING CODE 4810-33-P; 6720-01-P; 6714-01-P